DEPARTMENT OF TRANSPORTATION

Federal Aviation Administration

Notice of Opportunity for Public Comment on Surplus Property Land Swap and Release at the Jack Edwards National Airport, Gulf Shores, Alabama

AGENCY: Federal Aviation Administration, DOT.

ACTION: Request for public comments.

SUMMARY: Notice is being given that the FAA is considering a request from the Gulf Shores Airport Authority to release and exchange 5± acres of airport property, previously released for non-aeronautical use, for 5.75± acres of adjacent property to be used for non-aeronautical business development.

DATES: Comments must be received on or before March 11, 2021.

ADDRESSES: Comments on this notice may be mailed or delivered in triplicate to the FAA to the following address: Jackson Airports District Office Attn: Graham Coffelt, Program Manager, 100 West Cross Street, Suite B Jackson, MS 39208-2307.

In addition, one copy of any comments submitted to the FAA must be mailed or delivered to Gulf Shores Airport Authority, Attn: Mr. Scott Fuller, 3190 Airport Drive Gulf Shores, AL 36542.

FOR FURTHER INFORMATION CONTACT: Graham Coffelt, Program Manager, Jackson Airports District Office, 100 West Cross Street, Suite B, Jackson, MS 39208-2307, (601) 664-9886. The land release request may be reviewed in person at this same location.

Issued in Jackson, Mississippi, on February 3, 2021.
Rans D. Black,
Manager, Jackson Airports District Office, Southern Region.

[FR Doc. 2021-02599 Filed 2-8-21; 8:45 am]

BILLING CODE 4910-13-P